DEPARTMENT OF TRANSPORTATION

Federal Aviation Administration

14 CFR Part 25

Draft Proposed Changes to 14 CFR 25.1329 and Draft Advisory Circular 25.1329

AGENCY: Federal Aviation Administration (FAA), DOT.

ACTION: Notice of availability of Aviation Rulemaking Advisory Committee (ARAC) recommendations.

SUMMARY: The Federal Aviation Administration (FAA) announces the availability of the ARAC-recommended draft proposed changes to 14 CFR 25.1329 and draft Advisory Circular 25.1329 for potential use, upon request, in the certification of applicable aircraft systems. The said ARAC recommendations have not yet been adopted by the FAA.

DATES: The FAA received the ARAC submittal on March 21, 2002.

FOR FURTHER INFORMATION CONTACT: Mr. Gregg Bartley, Federal Aviation Administration, Transport Airplane Directorate, Transport Standards Staff, Airplane and Flight Crew Interface Branch, ANM-111, 1601 Lind Avenue SW., Renton, WA 98055-4056; telephone (425) 227-2889; fax (425) 227-1320; e-mail: Gregg.Bartley@faa.gov.

SUPPLEMENTARY INFORMATION: Reference: FAA policy memorandum 00-113-1034 “Use of ARAC (Aviation Rulemaking Advisory Committee) Recommended Rulemaking not yet formally adopted by the FAA, as a basis for equivalent level of safety or exemption to part 25.”

This policy memorandum describes a standardized, streamlined approach for the use of draft FAA/JAA harmonized regulations as a basis for an equivalent level of safety finding or an exemption to part 25. It may be found on the Internet at the following address: http://www.faa.gov/certification/aircraft/anminfo/document/final/aracesf/index.htm.

Background

After a multi-year review of the current 25.1329 rule and AC 25.1329-1A, the ARAC submitted to the FAA their recommendations for a rule amendment and revised advisory materials in March 2002. The ARAC-recommended draft proposed changes to 14 CFR 25.1329 and draft AC 25.1329 are available on the Internet at the following address: http://www1.faa.gov/avr/arm/aracflightguiderecommendation.cfm?nav=6. If you do not have access to the Internet, you can obtain a copy of the policy by contacting the person listed under FOR FURTHER INFORMATION CONTACT.

The procedure for using ARAC-recommended rules that are not yet adopted by the FAA is described in the FAA policy memorandum 00-113-1034 referenced above. The memorandum describes the process for requesting an equivalent safety finding, as well as petitioning for an exemption.

Issued in Renton, Washington, on March 20, 2003.
Kalene C. Yanamura,
Acting Manager, Transport Airplane Directorate, Aircraft Certification Service.

[FR Doc. 03-7666 Filed 4-3-03; 8:45 am]

BILLING CODE 4910-13-M